U.S.-CHINA ECONOMIC AND SECURITY REVIEW COMMISSION

Notice of Open Public Hearings

AGENCY: U.S.-China Economic and Security Review Commission

ACTION: Notice of open public hearings-June 18th and 19th, 2008, Washington, DC.

SUMMARY: Notice is hereby given of the following hearings of the U.S.-China Economic and Security Review Commission.

Name: Larry Wortzel, Chairman of the U.S.-China Economic and Security Review Commission.

The Commission is mandated by Congress to investigate, assess, evaluate and report to Congress annually on “the national security implications and impact of the bilateral trade and economic relationship between the United States and the People's Republic of China.” Pursuant to this mandate, the Commission will hold two public hearings in Washington, DC on June 18th and 19th, 2008. The first, a full-day hearing on June 18th, will address “Access to Information and Media Control in the People's Republic of China.” The second, a half-day hearing on the morning of June 19th, will examine “The Memorandum of Understanding Between the U.S. and China Regarding Prison Labor Products.”

Background

These events are the sixth and seventh in a series of public hearings the Commission will hold during its 2008 report cycle to collect input from leading academic, industry, and government experts on the impact of the economic and national security implications of the U.S. bilateral trade and economic relationship with China. The June 18th hearing, “Access to Information and Media Control in the People's Republic of China,” will be Co-chaired by Chairman Larry Wortzel and Commissioner Jeffrey Fiedler. This hearing will seek to examine the ways in which media censorship and restrictions on publicly available information within China can impact the economic, diplomatic, and security relationships between China and the United States.

The June 19th hearing, “The Memorandum of Understanding Between the U.S. and China Regarding Prison Labor Products,” will be Co-chaired by Chairman Larry Wortzel and Commissioner Peter Videnieks. This hearing will address the formal agreements made between the U.S. and Chinese governments vis-à-vis products made with prison labor, and seek to determine the status of Chinese government compliance with these agreements.

Information on hearings, as well as transcripts of past Commission hearings, can be obtained from the USCC Web Site http://www.uscc.gov.

Copies of the hearing agendas will be made available on the Commission's Web site http://www.uscc.gov as soon as available. Any interested party may file a written statement by June 18th, 2008, by mailing to the contact below. The June 18th hearing will be held in two sessions, one in the morning and one in the afternoon; the June 19th hearing will consist of a single session in the morning. Each hearing will include both expert witness testimony, and question and answer periods between the Commissioners and the witnesses.

Date and Time: First hearing: Wednesday, June 18th, 2008, 8:30 a.m. to 4:45 p.m., Eastern Standard Time. Second hearing: Thursday, June 19th, 8:30 a.m. to 11:45 a.m., Eastern Standard Time. Detailed agendas for the hearing will be posted to the Commission's Web site at http://www.uscc.gov in the near future.

ADDRESSES: Both hearings will be held on Capitol Hill, in Room 418 of the Russell Senate Office Building, located at Delaware and Constitution Avenue, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Public Law 106-398), as amended by Division P of the Consolidated Appropriations Resolution, 2003 (Pub. L. 108-7), as amended by Public Law 109-108 (November 22, 2005).

Dated: May 27, 2008.
Kathleen J. Michels,
Associate Director, U.S.-China Economic and Security Review Commission.

[FR Doc. E8-12152 Filed 5-30-08; 8:45 am]

BILLING CODE 1137-00-P